INTERNATIONAL TRADE COMMISSION

[Investigation No. 337-TA-1030]

Certain High-Potency Sweeteners, Processes for Making Same, and Products Containing Same; Commission Determination Not To Review an Initial Determination Granting Complainants' Motion for Termination of the Investigation Based on Withdrawal of the Complaint; Termination of the Investigation

AGENCY: U.S. International Trade Commission.

ACTION: Notice.

SUMMARY: Notice is hereby given that the U.S. International Trade Commission has determined not to review an initial determination (“ID”) (Order No. 7) of the presiding administrative law judge (“ALJ”) granting Complainants' motion for termination of the investigation based on withdrawal of the complaint. The investigation is terminated.

FOR FURTHER INFORMATION CONTACT: Houda Morad, Office of the General Counsel, U.S. International Trade Commission, 500 E Street SW., Washington, DC 20436, telephone (202) 708-4716. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at https://www.usitc.gov. The public record for this investigation may be viewed on the Commission's electronic docket (EDIS) at https://edis.usitc.gov. Hearing-impaired persons are advised that information on this matter can be obtained by contacting the Commission's TDD terminal on (202) 205-1810.

SUPPLEMENTARY INFORMATION: The Commission instituted Investigation No. 337-TA-1030 on November 28, 2016, based on a complaint filed by Complainants Celanese International Corporation of Irving, Texas; Celanese Sales U.S. Ltd. of Irving, Texas; and Celanese IP Hungary Bt of Budapest, Hungary (collectively, “Complainants” or “Celanese”). See 81 FR 85640-1 (Nov. 28, 2016). The complaint alleges violations of section 337 of the Tariff Act of 1930, as amended (19 U.S.C. 1337), based upon the importation into the United States, the sale for importation, and the sale within the United States after importation of certain high-potency sweeteners, processes for making same, and products containing same by reason of infringement of certain claims of U.S. Patent No. 9,024,016 (“the '016 patent”). See id. The notice of investigation identified Suzhou Hope Technology Co., Ltd. of Suzhou City, China; Anhui Jinhe Industrial Co., Ltd. of Anhui, China; and Vitasweet Co., Ltd. of Beijing, China (collectively, “Respondents”) as respondents in this investigation. See id. The Office of Unfair Import Investigations is also a party to this investigation. See id.

On February 2, 2017, Complainants filed a motion for termination of the investigation based on withdrawal of the complaint. On February 13, 2017, Respondents filed responses in opposition to Complainants' motion. On the same day, the Commission Investigative Attorney (“IA”) filed a response in support of Complainants' motion. Additionally, on February 17, 2017, Complainants filed a motion for leave to file a reply in support of their motion.

On March 1, 2017, the ALJ issued the subject ID, denying Complainants' motion for leave to file a reply but granting their motion for termination of the investigation. The ALJ found that Complainants' motion complied with Commission Rule 210.21(a)(1), 19 CFR 210.21(a)(1), “insomuch as it includes a statement that `[t]here are no agreements, written or oral, express or implied, between Complainant and Respondents . . . concerning the subject matter of this Investigation.' ” ID at 4 (alteration in original). The ALJ also found no “extraordinary circumstances that merit denying Celanese's motion at this relatively early point in the investigation.” Id. (citations omitted).

No party has filed a petition for review of the subject ID.

The Commission has determined not to review the subject ID. The investigation is terminated.

The authority for the Commission's determination is contained in section 337 of the Tariff Act of 1930, as amended (19 U.S.C. 1337), and in part 210 of the Commission's Rules of Practice and Procedure (19 CFR part 210).

By order of the Commission.
Issued: March 20, 2017.
Lisa R. Barton,
Secretary to the Commission.

[FR Doc. 2017-05830 Filed 3-23-17; 8:45 am]

BILLING CODE 7020-02-P